DEPARTMENT OF ENERGY

Western Area Power Administration

Desert Southwest Customer Service Region-Rate Order No. WAPA-129

AGENCY: Western Area Power Administration, DOE.

ACTION: Notice of Order Extending Network Integration Transmission and Ancillary Services Rates.

SUMMARY: This action is to extend the existing Rate Schedules PD-NTS1, INT-NTS1, DSW-SD1, DSW-RS1, DSW-FR1, DSW-EI1, DSW-SPR1, and DSW-SUR1 for the Desert Southwest Customer Service Region (DSW) network integration transmission services (NTS) for Parker-Davis Project (P-DP) and Pacific Northwest-Pacific Southwest Intertie Project (Intertie) and ancillary services for the Western Area Lower Colorado (WALC) control area through September 30, 2006. The additional time is needed to accommodate changes in methodology due to recent events in the industry.

FOR FURTHER INFORMATION CONTACT: Mr. Jack Murray, Rates Team Lead, Desert Southwest Customer Service Region, Western Area Power Administration, P.O. Box 6457, Phoenix, AZ 85005-6457, (602) 605-2442, e-mail jmurray@wapa.gov.

SUPPLEMENTARY INFORMATION: By Delegation Order No. 00-037.00 approved December 6, 2001, the Secretary delegated: (1) The authority to develop power and transmission rates on a nonexclusive basis to the Administrator of the Western Area Power Administration (Western); (2) the authority to confirm, approve, and place such rates into effect on an interim basis to the Deputy Secretary; and (3) the authority to confirm, approve, and place into effect on a final basis, to remand, or to disapprove such rates to the Federal Energy Regulatory Commission (Commission).

Pursuant to applicable Delegation Orders and existing Department of Energy (DOE) procedures for public participation in power and transmission rate adjustments in 10 CFR part 903, Western's rate methodology for network integration transmission and ancillary services was submitted to the Commission for confirmation and approval on May 3, 1999, as supplemented on May 21, 1999. On January 20, 2000, in Docket No. EF99-5041-000, at 90 FERC 62,032, the Commission issued an order confirming, approving, and placing into effect on a final basis rate schedules for transmission and ancillary services from Western's DSW. Rate Order No. WAPA-84 was approved for a 5-year period, beginning April 1, 1999, and ending March 31, 2004. These rate schedules were extended by a series of Rate Orders through March 31, 2006, with the most recent Rate Order being Rate Order No. WAPA-121 (70 FR 15622, March 28, 2005).

Western entered into a rate adjustment process with a Federal Register notice published on October 12, 2005, beginning a public consultation and comment period that ended on January 10, 2006. The enactment of the Energy Policy Act of 2005, issues arising out of the Commission's implementation of that Act, and a recently proposed revision to the transmission revenue requirement for a separate Western project caused a reassessment of the proposed rates as presented in the public process. Western believes that the additional time afforded by extending the date for expiration of the network integration transmission and ancillary services will allow Western to validate these rate designs. Western's existing formulary network integration transmission and ancillary service schedules, which are recalculated annually, will sufficiently recover project expenses (including interest) and capital requirements through September 30, 2006.

Following review of Western's proposal within the DOE, I approve Rate Order No. WAPA-129, which extends the existing Network Integration Transmission and Ancillary Services Rates through September 30, 2006, or until superseded.

Dated: March 22, 2006.
Clay Sell,
Deputy Secretary.

Deputy Secretary

In the Matter of: Western Area Power Administration; Extension of the Network Integration; Transmission and Ancillary Service Rates; Order Confirming and Approving an Extension of The Desert Southwest Customer Service Region Network Integration Transmission and Ancillary Services Rates

These service rate methodologies were established following section 302 of the Department of Energy (DOE) Organization Act, (42 U.S.C. 7152). This Act transferred to and vested in the Secretary of Energy (Secretary) the power marketing functions of the Secretary of the Department of the Interior and the Bureau of Reclamation under the Reclamation Act of 1902, (ch. 1093, 32 Stat. 388), as amended and supplemented by subsequent enactments, particularly section 9(c) of the Reclamation Project Act of 1939 (43 U.S.C. 485h(c)), and other Acts that specifically apply to the project system involved.

By Delegation Order No. 00-037.00 approved December 6, 2001, the Secretary delegated: (1) The authority to develop power and transmission rates on a non-exclusive basis to the Administrator of the Western Area Power Administration (Western); (2) the authority to confirm, approve, and place such rates into effect on an interim basis to the Deputy Secretary; and (3) the authority to confirm, approve, and place into effect on a final basis, to remand, or to disapprove such rates to the Federal Energy Regulatory Commission (Commission).

Background

The existing rate, Rate Order No. WAPA-84, was approved for 5 years, beginning April 1, 1999, and ending March 31, 2004. These rate schedules were extended by a series of Rate Orders through March 31, 2006, with the most recent Rate being Rate Order No. WAPA-121 (70 FR 15622, March 28, 2005).

Discussion

Western entered into a rate adjustment process with a Federal Register notice published on October 12, 2005, beginning a public consultation and comment period that ended on January 10, 2006. The enactment of the Energy Policy Act of 2005, issues arising out of the Commission's implementation of that Act, and a recently proposed revision to the transmission revenue requirement for a separate Western project caused a reassessment of the proposed rates as presented in the public process. Western believes that the additional time afforded by extending the date for the expiration of the network integration transmission and ancillary services will allow Western to validate these rate designs.

Therefore, time requirements make it necessary to extend the current rates pursuant to 10 CFR part 903.23(b). Upon its approval, Rate Order No. WAPA-121 will be extended under Rate Order No. WAPA-129.

Order

In view of the above and under the authority delegated to me by the Secretary, I hereby extend for a period effective from April 1, 2006 and ending September 30, 2006, the existing Ancillary Rate Schedules DSW-SD1, DSW-RS1, DSW-FR1, DSW-EI1, DSW-SPR1, DSW-SUR1, and the existing network integration transmission rate schedules PD-NTS1, and INT-NTS1. These rates shall remain in effect through September 30, 2006, or until superseded.

Dated: March 22, 2006.
Clay Sell,
Deputy Secretary.

[FR Doc. E6-4777 Filed 3-31-06; 8:45 am]

BILLING CODE 6450-01-P